INTERNATIONAL TRADE COMMISSION

[Investigations Nos. 731-TA-474 and 475 (Review)]

Chrome-Plated Lug Nuts From China and Taiwan

AGENCY: United States International Trade Commission.

ACTION: Notice of Commission determination to conduct full five-year reviews concerning the antidumping duty orders on chrome-plated lug nuts from China and Taiwan.

SUMMARY: The Commission hereby gives notice that it will proceed with full reviews pursuant to section 751(c)(5) of the Tariff Act of 1930 (19 U.S.C. 1675(c)(5)) to determine whether revocation of the antidumping duty orders on chrome-plated lug nuts from China and Taiwan would be likely to lead to continuation or recurrence of material injury within a reasonably foreseeable time. In the course of considering the record in these expedited reviews, the Commission now determines that full reviews are warranted. The Commission will exercise its authority to extend the review period by up to 90 days pursuant to 19 U.S.C. 1675(c)(5)(B). A schedule for these reviews will be established and announced at a later date. For further information concerning the conduct of these reviews and rules of general application, consult the Commission's rules of practice and procedure, part 201, subparts A through E (19 CFR part 201), and part 207, subparts A, D, E, and F (19 CFR part 207).

EFFECTIVE DATE: March 22, 2000.

FOR FURTHER INFORMATION CONTACT: Vera Libeau (202-205-3176), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On November 4, 1999, the Commission determined that it should expedite these reviews pursuant to 751(c)(3)(B) of the Act. The Commission found that the domestic interested party group response to its notice of institution (64 FR 41949, August 2, 1999) was adequate and that the respondent interested party group response was inadequate. Therefore, it voted to conduct expedited reviews. The Commission has found, however, that circumstances warrant conducting full reviews. Therefore, on March 22, 2000, the Commission determined that it should proceed to full reviews in the subject five-year reviews pursuant to section 751(c)(5) of the Act. The Commission's statement on proceeding to full reviews and any individual Commissioner's statements will be available from the Office of the Secretary and at the Commission's web site.

Authority: These reviews are being conducted under authority of title VII of the Tariff Act of 1930; this notice is published pursuant to § 207.62 of the Commission's rules.

By order of the Commission.
Issued: March 23, 2000.
Donna R. Koehnke,
Secretary.

[FR Doc. 00-7767 Filed 3-28-00; 8:45 am]

BILLING CODE 7020-02-P